ENVIRONMENTAL PROTECTION AGENCY

[EPA-HQ-OECA-2014-0039; FRL-9987-55-OEI]

Information Collection Request Submitted to OMB for Review and Approval; Comment Request; NSPS for Nonmetallic Mineral Processing (Renewal)

AGENCY: Environmental Protection Agency (EPA).

ACTION: Notice.

SUMMARY: The Environmental Protection Agency (EPA) has submitted an information collection request (ICR), NSPS for Nonmetallic Mineral Processing (EPA ICR No. 1084.14, OMB Control No. 2060-0050), to the Office of Management and Budget (OMB) for review and approval in accordance with the Paperwork Reduction Act. This is a proposed extension of the ICR, which is currently approved through March 31, 2019. Public comments were previously requested, via the Federal Register, on June 29, 2017 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before March 13, 2019.

ADDRESSES: Submit your comments, referencing Docket ID Number EPA-HQ-OECA-2014-0039, to: (1) EPA online using www.regulations.gov (our preferred method), by email to docket.oeca@epa.gov, or by mail to: EPA Docket Center, Environmental Protection Agency, Mail Code 28221T, 1200 Pennsylvania Ave. NW, Washington, DC 20460; and (2) OMB via email to oira_submission@omb.eop.gov. Address comments to OMB Desk Officer for EPA.

EPA's policy is that all comments received will be included in the public docket without change, including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit: http://www.epa.gov/dockets.

Abstract: The New Source Performance Standards (NSPS) for Nonmetallic Mineral Processing (40 CFR part 60, subpart OOO) apply to the following affected facilities in fixed or portable nonmetallic mineral processing plants: Each crusher, grinding mill, screening operation, bucket elevator, belt conveyor, bagging operation, storage bin, and enclosed truck or railcar loading station, which commenced construction, modification or reconstruction after August 31, 1983. Also, crushers and grinding mills at hot mix asphalt facilities that reduce the size of nonmetallic minerals embedded in recycled asphalt pavement and subsequent affected facilities up to, but not including, the first storage silo or bin are subject to the provisions of the subpart. New facilities include those that commenced construction, modification, or reconstruction after the date of proposal. In general, all NSPS standards require initial notifications, performance tests, and periodic reports by the owners/operators of the affected facilities. They are also required to maintain records of the occurrence and duration of any startup, shutdown, or malfunction in the operation of an affected facility, or any period during which the monitoring system is inoperative. These notifications, reports, and records are essential in determining compliance with 40 CFR part 60, subpart OOO.

Form Numbers: None.

Respondents/Affected Entities: Nonmetallic mineral processing facilities.

Respondent's Obligation to Respond: Mandatory (40 CFR part 60, subpart OOO).

Estimated Number of Respondents: 5,095 (total).

Frequency of Response: Initially and occasionally.

Total Estimated Burden: 20,200 hours (per year). Burden is defined at 5 CFR 1320.3(b).

Total Estimated Cost: $2,450,000 (per year), which includes $228,000 in annualized capital/setup and/or operation & maintenance costs.

Changes in the Estimates: The increase in burden for respondents from the most recently approved ICR is due to two adjustments. The first adjustment increase in burden is an increase in the number of new or modified sources. The second adjustment increase in burden from the most recently approved ICR is the addition of burden hours to account for the time spent by existing facilities to re-familiarize themselves annually with the rule requirements.

Courtney Kerwin,
Director, Regulatory Support Division.

[FR Doc. 2019-01845 Filed 2-8-19; 8:45 am]

BILLING CODE 6560-50-P